DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held June 12, 2001 starting at 9 a.m.

ADDRESSES: The meeting will be held at RTCA, Inc., 1140 Connecticut Avenue, NW., Suite 1020, Washington, DC 20036.

FOR FURTHER INFORMATION CONTACT: RTCA Secretariat, 1140 Connecticut Avenue, NW., Washington, DC 20036; telephone (202) 833-9339; fax (202) 833-9434; web site http://www.rtca.org.

SUPPLEMENTARY INFORMATION: Pursuant to section 10(a)(2) of the Federal Advisory Committee Act (Pub. L. 92-463, 5 U.S.C., Appendix 2), notice is hereby given for a Program Management Committee meeting. The agenda will include:

June 12

Opening Session (Welcome and Introductory Remarks, Review/Approve Summary of Previous Meeting)

Publication Consideration/Approval

• Final Draft, Change 2 to DO-160D, Environmental Conditions and Test Procedures for Airborne Equipment, RTCA Paper No. 135-01/PMC-144, prepared by SC-135.

• Final Draft, DO-181C, Minimum Operational Performance Standards for Air Traffic Control Radar Beacon System/Mode Select (ATCRBS/Mode S) Airborne Equipment, RTCA Paper No. 150-01/PMC-148, prepared by SC-187.

• Final Draft, DO-218B, Minimum Operational Performance Standards for the Mode S Airborne Data Link Processor, RTCA Paper No. 151-01/PMC-149, prepared by SC-187

• Final Draft, Change 3 to DO-204, Minimum Operational Performance Standards 406 MHz Emergency Locator Transmitters (ELT), RTCA Paper No. 132-01/PMC-143, prepared by SC-160.

• Final Draft, Concepts For Services Integrating Flight Operations And Air Traffic Management Using Addressed Data Link, RTCA Paper No. 147-01/PMC-146, prepared by SC-194.

Discussion

• New Special Committee, Airport Security Access Control

—Discuss results of earlier PMC action to establish this new committee

—Public comment

• Special Committee 195, Flight Information Services Communications

• Consideration of Terms of Reference Update, Proposed Revision 3

• Special Committee 181, Navigation Standards

• Consideration of nominated new Special Committee, Dave Nakamura, Boeing

• Special Committee 190, Application Guidelines for DO-178B

—Chairman's Presentation

—Committee activity update and introduction of SC-190's document, Guidelines for CNS/ATM Systems Software Integrity Assurance

• Special Committee 172, VHF Air-Ground Communication

• Chairman's Report

• Two issues: (1) Retention of Working Group papers; (2) Document Update Process

Action Item Review

• Action Item 01-01, Report on RTCA National Airspace Redesign activity

• Action Item 02-01, Member's comment on need for a Multi Function Display Special Committee

Closing Session (Other Business, Document Production, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Dated: Issued in Washington, DC, on May 15, 2001.
James L. Peters,
FAA Special Assistant, RTCA Advisory Committee.

[FR Doc. 01-12725 Filed 5-18-01; 8:45 am]

BILLING CODE 4910-13-M